DEPARTMENT OF HEALTH AND HUMAN SERVICES

Centers for Disease Control and Prevention

[Program Announcement 04121]

Public Health Capacity Development for International Organizations Engaged in War-Related Injuries and Mine Action; Notice of Availability of Funds; Amendment

A notice announcing the availability of fiscal year (FY) 2004 funds for a cooperative agreement for public health capacity development for international organizations engaged in war-related injuries and mine action was published in the Federal Register Tuesday, March 30, 2004, Volume 69, Number 61, pages 16577-16579. The notice is amended as follows: The application deadline is no longer June 1, 2004. The deadline has been extended to June 21, 2004.

Dated: May 27, 2004.
William P. Nichols,
Acting Director, Procurement and Grants Office, Centers for Disease Control and Prevention.

[FR Doc. 04-12570 Filed 6-2-04; 8:45 am]

BILLING CODE 4163-18-P